DEPARTMENT OF HEALTH AND HUMAN SERVICES

Administration for Children and Families

[Program Announcement No. ACF/ACYF/HS-QRC 2001-01]

Fiscal Year 2001 Discretionary Announcement for Head Start Quality Research Centers; Availability of Funds and Request for Applications

AGENCY: Administration on Children, Youth and Families (ACYF), ACF, DHHS.

ACTION: Announcement of the availability of funds and request for applications for research on research-based program improvement projects by university faculty or other nonprofit institutions in partnership with Head Start programs.

SUMMARY: The Administration for Children and Families (ACF), Administration on Children, Youth and Families (ACYF) announces the availability of funds for Head Start Quality Research Centers to support intervention research and evaluation activities to promote the school readiness of preschool age children in Head Start.

DATES: The closing time and date for receipt of applications is 5:00 p.m. (Eastern Time Zone) November 6, 2000. Applications received after 5:00 p.m. on the deadline date will be classified as late.

ADDRESS: Mail applications to: ACYF Operations Center, 1815 N.Fort Myer Drive, Suite 300, Arlington, Virginia 22209.

HAND DELIVERED, COURIER OR OVERNIGHT DELIVERY applications are accepted during the normal working hours of 8:00 a.m. to 5:00 p.m., Monday through Friday, on or prior to the established closing date.

All packages should be clearly labeled as follows:

Application for Head Start Quality Research Centers.

FOR FURTHER INFORMATION CONTACT: The Head Start Research Support Technical Assistance Team (1-800) 351-2293, is available to answer questions regarding application requirements and to refer you to the appropriate contact person in ACYF for programmatic questions. You may e-mail your questions to: hsr@lcgnet.com

In order to determine the number of expert reviewers that will be necessary, if you are going to submit an application, you must send a post card, call or e-mail with the following information: the name, address, telephone and fax number, e-mail address of the principal investigator, and the name of the university or non-profit institution at least four weeks prior to the submission deadline date to:

ACYF Operations Center, Head Start Research, 1815 N.Fort Myer Drive, Suite 300, Arlington, Virginia 22209, (1-800) 351-2293, E-mail hsr@lcgnet.com.

Part I. Purpose and Background

A. Purpose

The purpose of this announcement is to announce the availability of funds to support the formation of a Head Start Quality Research Center Consortium. This Consortium will include of program-researcher partnerships funded under cooperative agreements and designed to develop, evaluate, refine, and assist in dissemination of specific approaches to enhance Head Start program quality that promotes school readiness.

B. Background

In September 1995, Head Start awarded four cooperative agreements to form the Head Start Quality Research Center Consortium. The objective of the Consortium was to create ongoing partnerships among ACYF, Head Start grantees and the academic research community to support applied research on quality program practices and program outcomes. During their five-year project period, the QRC Consortium has succeeded in building exemplary researcher-program partnerships and advancing the Head Start program's understanding of what aspects of program quality contribute to positive child and family outcomes. In so doing, they have also created or refined tools and strategies for assessing classroom quality, conducting parent interviews, and assessing child outcomes. As well as extensive local research initiatives, their efforts contributed to the development of the nationally representative Head Start Family and Child Experiences Survey (FACES).

The current announcement builds on the success of the QRC Consortium in two ways. First, it continues the commitment to build research capacity in programs through partnership with the academic research community, as well as enhancing the responsiveness of that community to the programmatic and policy concerns of the population Head Start serves. Second, it moves into a new phase of quality enhancement research, by supporting the development and evaluation of specific program practices designed to promote the school readiness of Head Start children.

Purpose and Priorities

Head Start's ultimate goal is to promote the social competence or school readiness of children. Social competence is the child's everyday effectiveness in dealing with his or her present environment and later responsibilities in school and life. For the five-year-old child coming to the end of the preschool period and entering school, an important test of social competence is whether he or she has acquired the skills, understandings and behaviors that help ensure successful functioning in this new environment.

The Goal I Technical Planning Group of the National Education Goals Panel, which was charged with operationalizing the term “ready to learn,” listed five dimensions of early learning, development and abilities (Kagan, S.L., Moore, E. & Bredekamp, S. (1995) Reconsidering children's early development and learning: Toward common views and vocabulary. Washington, D.C. National Educational Goals Panel) [http://www.negp.gov/reports/child-ea.htm].

This comprehensive view sees school readiness as a multi-faceted phenomenon comprising five developmental domains that are important to the child's readiness for school: physical well-being and motor development, social and emotional development, approaches to learning, language use and emerging literacy, and cognition and general knowledge. Head Start has translated these domains into the following Performance Measures indicators: (1) Emergent literacy, numeracy and language skills; (2) improved general cognitive skills; (3) improved gross and fine motor skills; (4) improved positive attitudes towards learning; (5) improved social behavior and emotional well-being; and (6) improved physical health and development.

One of the key findings of the Head Start FACES Study was the empirical link between the quality of the child development environment, in this case the Head Start classroom, and the outcomes of children in the program. Head Start classrooms were observed to be good on average, with a range of quality that is less variable than that found in other studies of center-based early childhood programs. Yet even within that restricted range, specific aspects of quality, such as better child:adult ratios and richer teacher-child interaction and language learning opportunities, were related to better child performance on assessment tasks, regardless of the child's baseline ability. FACES also demonstrated a link between teacher characteristics, such as educational attainment, and observed measures of classroom quality. Teachers with higher educational levels showed more sensitivity and responsiveness and had classrooms with higher-quality language activities and creative opportunities.

In terms of child outcomes, FACES found that children graduating from Head Start showed significant progress in some domains, like vocabulary and pre-writing, but less progress in knowing letters of the alphabet or being familiar with concepts about print. Similarly, while Head Start children were rated by their teachers as having significant growth in social skills—more than the typical child—there was a minority of children who still exhibited behavior problems at the end of the program year. Interviews with teachers suggest that curricular activities and classroom practice may be related to these patterns of learning and behavior.

In addition to the focus on obtaining a national picture of program quality and child outcomes, Head Start is currently emphasizing local outcome measurement as well. As mandated by the Head Start Reauthorization Amendments of 1998, the Head Start Bureau is currently developing domains and indicators of child performance that can be used by local programs in the context of their own self-assessments. These proposed child outcome domains closely parallel those of the Head Start Program Performance Measures, including language development, literacy, mathematics, science, creative arts, social and emotional development, approaches toward learning, and physical development, health and well-being development (see ACYF-IM-HS-00-18, 8/10/2000, available at [http://www.hskids-tmsc.org/publications/im00/im00_18.htm]. Congress stipulated more targeted local efforts in tracking and improving child outcomes, especially in the areas of literacy/language development, so Head Start's regular program monitoring and local program self-assessment will incorporate review of such child outcome data as one measure of program effectiveness.

With current knowledge in mind, the next generation of the Quality Research Center Consortium is aimed at exploring ways to intervene in Head Start programs to enhance quality and outcomes, for example, by improving curriculum or classroom practice, family involvement, or professional development. One important goal is the creation of new models and resources for local programs as they move toward considering child outcome data more carefully in their efforts at program improvement.

Thus, successful program-researcher partnerships under this announcement would form a Quality Research Center Consortium with the goal of developing and evaluating program quality enhancements to promote child outcomes in school readiness, broadly defined. Each partnership team of one or more Head Start grantees and a research organization would focus on a particular, self-selected approach to enhancing program practices in the family and/or classroom, and would evaluate the process of implementation, maintenance of fidelity of the intervention, and one or more specific child outcomes related to school readiness. The goal would be the development, evaluation and refinement of a specific approach with future dissemination to other Head Start programs in mind, using the Training and Technical Assistance Network or by other means.

This announcement does not specify the types of quality enhancements that may be undertaken, although the focus on improving child school readiness-related outcomes suggests areas of particular interest. The enhancements should represent a particular area of focus on interventions likely to affect child outcomes, rather than advocating more general goals like “quality improvement.” Specific areas of focus might include, but need not be limited to, (1) classroom and/or family-involvement activities in the area(s) of emerging literacy, language development, numeracy, social-emotional development, physical development, approaches to learning, creative expression, health, and/or mental health; (2) activities promoting positive outcomes in linguistically and culturally diverse populations; (3) professional development activities designed to enhance classroom behavior management or other classroom practice; (4) program improvement activities in the areas of family involvement and service provision. In selection of these focus areas, applicants should be guided by both the Program Performance Standards and the child school readiness-related outcomes listed above from the Program Performance Measures.

The first phase would consist of a planning period during which researchers and program staff would build upon their collaborative relationship and agree on and pilot the procedures for implementation of the intervention. Ideally, this partnership would involve researchers paying attention to stated program needs and strengths, not simply imposing a finished intervention on the site. This planning period would extend from award of the cooperative agreement to the beginning of the subsequent program year, approximately 9-10 months in length. This phase would require obtaining a thorough understanding of current program practice and quality in order to focus on exactly those aspects of the program to be targeted in the intervention. Baseline information on relevant aspects of program quality and practice would be collected.

Following the planning period, the chosen approach would be implemented in the primary site, or home program, by the program-researcher partnership, most commonly at the beginning of the next program year, and studied for key aspects of implementation. Aspects would include, but not be limited to, such questions as: (1) What is the theory of change supporting the use of this particular intervention to improve school readiness? (2) what levels of staff qualifications are required? (3) what training and materials are needed? (4) how is classroom or program practice or parent involvement affected? (5) can fidelity of the intervention be maintained over the program year? (6) what are possible program or family barriers to acceptance? And finally, (7) how effective is the approach in improving children's school readiness skills and abilities (as outlined above)? Pre- and post-intervention assessment of child outcomes in the comprehensive domains of school readiness would be required, even if the intervention is targeting one or two domains as most likely to be affected.

In a second phase, assuming the intervention approach proved promising and efficacious, it would be replicated to one or more additional Head Start program sites, with support from the developers, and its implementation and effectiveness again studied. This secondary site could be a site/center or centers under the direction of the first grantee that had not previously participated in the intervention and research, or a site/center or centers under the direction of a different grantee. It could be another site participating in the Consortium, if appropriate, in order to maximize the collaborative benefits of the initiative. In either case, the cooperation of the participating secondary site must be ensured and verified using the same methods as for the primary site. At this point, in order to best test the effectiveness of the intervention, it would be important to include the use of more rigorous designs, including control or comparison groups, for example, random assignment of classrooms or centers to intervention/no-intervention options.

The overall objective would be the development of well-tested and refined models of quality enhancements for dissemination to Head Start programs more broadly, with the involvement of the Training and Technical Assistance Network and through other means.

Although the program-researcher partnerships funded under this announcement would be responsible for the development, implementation and maintenance of the intervention, an external evaluation team, most likely from a contracting firm, would provide pre- and post-intervention data collection and analysis of a core set of cross-site measures of program quality, parent involvement and satisfaction, and child outcomes. This type of centralized data coordination center mechanism has been found to be important in maximizing the systematic collection of cross-site knowledge obtained from research consortia. The cross-site data would be returned in a timely manner to local program-researcher partnerships to serve as a base for local analyses, as well as eventually made available in public use datasets. Additional local measures and data analysis of implementation and outcomes could be carried out by the local program-researcher teams, as well, using project funds. This arrangement allows local researchers to particularly consider qualitative or more intensive data collection approaches to augment the available core measures. Cooperative agreement budgets should include costs of data collection for local measures, assuming a common core of data to be provided by the external data collection center. This cross-site research effort by the data coordinating center is designed to build on current FACES findings/instruments regarding both classroom quality and practices, and parent and child outcomes, however, local researchers will have some input into final decisions about the core measures to be used. For purposes of calculating participant burden, the current FACES child direct assessment is completed in approximately 30 minutes per child. For a full listing of the measures used in the 1997-2000 FACES study, please see [http://www2.acf.dhhs.gov/programs/hsb/hsreac/faces].

The most common timeline for program-researcher partnership designs would involve the following phases of project work. Note that these project phases may not correspond exactly with annual funding periods:

(1) Phase I Planning Period, from award of cooperative agreement to the beginning of the next academic/program year, including development of intervention plan in collaboration with program, piloting, staff training, pre-intervention assessments of classroom and/or program quality;

(2) Phase II Primary Intervention Implementation Period, including pre-post measurement of classroom quality and child outcomes and assessment of implementation fidelity;

(3) Phase II Transitional Period including (a) continuation of intervention at initial site with potential transfer to management by program and (b) selection of and planning with secondary site for implementation of intervention and more rigorous evaluation to take place in Phase III;

(4) Phase III Secondary Intervention Implementation Period with more rigorous evaluation component;

(5) Phase III Transitional Period with continuation of more rigorous evaluation component and potential development of materials for wider dissemination via the Training and Technical Assistance Network or by other means.

As indicated in the phases outlined above, during the Phase II Transitional Period, decisions would be made by ACYF about the projects selected to continue into Phase III, based on criteria of successful implementation of the intervention, study characteristics (e.g., adequate sample size, minimal attrition, etc.) and positive outcomes. Similarly, during Phase III, if funded, decisions would be made by ACYF about the projects approved to develop materials for wider dissemination via the Training and Technical Assistance Network or by other means.

Subsequent to award of these cooperative agreements and formation of the Quality Research Center Consortium, other cross-site and collaborative initiatives are welcomed, such as cases in which a subset of Quality Research Center Consortium members share a particular intervention focus. Both local intervention approaches and local evaluation instruments may be used across multiple sites to maximize the information gained in the collaborative studies.

Cooperative Agreements

ACYF is utilizing a cooperative agreement mechanism, a funding mechanism that allows substantial Federal involvement in the activities undertaken with Federal financial support. Details of the responsibilities, relationships and governance of the cooperative agreement will be spelled out in the terms and conditions of the award. The specific responsibilities of the Federal staff and project staff will be identified and agreed upon prior to the award of each cooperative agreement. At a minimum, however, the following roles and responsibilities will characterize the Quality Research Center Consortium:

1. Responsibilities of the Grantee

The Grantee

Conducts a local intervention and research project designed to develop, evaluate, refine and assist in dissemination of specific approaches to enhance Head Start program quality to promote child outcomes in school readiness.

Cooperates with one or more local Head Start programs in the design, implementation, and evaluation of the intervention.

Cooperates with an external evaluation team in the collection of core process and outcome data.

Participates as a member of the Consortium with other researchers, program partners, external evaluators, and Federal staff.

2. Responsibilities of the Federal Staff

Federal Staff

Provide guidance in the development of the final study design, including selection of core measures.

Participate as members of the Consortium or any policy, steering, or other working groups established at the Consortium level to facilitate accomplishment of the project goals.

Facilitate communication and cooperation among the Consortium members.

Supervise the activities of the external evaluation team.

Provide logistical support to facilitate meetings of the Consortium.

Key Intervention Questions

The proposed intervention should be designed with the following key questions in mind; these and related questions will be addressed in evaluating the success of its implementation. While each of these questions need not be addressed specifically in the proposal, the design of the intervention and evaluation should show evidence that such questions have been considered.

Intervention program content: What is the theoretical justification for the intervention program, and to what extent does the intervention, as implemented, adhere to its theoretical basis? What is the preliminary evidence that the approach will be effective? What are the expected short-term and/or long-term outcomes for children, and what are the mediating variables that are expected to effect those outcomes (i.e., what is the logic model)? How are mediating variables and outcomes measured? What is the range of program elements that are affected, either positively or negatively? To what extent can procedures be documented and manualized, and what is the process for achieving this? What is the range of activities to be undertaken? How does the intervention conform to or deviate from existing procedures in the site? What is the process of continuous improvement, and how are changes, and benefits of those changes, documented over time?

Classroom, program, and community context: What are the structures and supports necessary to implement the intervention program? What are the key activities that are conducted to include or gain support from community stakeholders and collaborators, with program administrators and policy councils, with classroom teachers and other staff, with parents of children in the classrooms? What are the contextual variables that might influence how the intervention is implemented: e.g., culture, neighborhood characteristics, organizational climate, level of poverty in the community, teacher backgrounds, education, motivation, skills and attitudes, levels of support (financial and otherwise), competing priorities within a program or classroom, management and organizational structures? What are the relationships among the individuals who are stakeholders and/or participants in the intervention?

Target population(s): Who is expected to benefit from the program? Is it a universal or selected intervention? Who are the intended participants (children, families, staff)? How are age, gender, language, disability and other key child characteristics, as well as cultural issues, addressed? To what populations are evaluation results likely to be generalizable?

Intervention program delivery: Who gets what, from whom, and how much? What is the intensity of the intervention, the frequency of contact, the length of each contact, the number of contacts and the duration of treatment? To what extent is the program individualized, and what are the supports for individualization (e.g., periodic assessments of needs and progress). What is the level of participation, and who is most and least likely to participate? Who delivers the program? What is the level of education, training, and supervision that is required of intervention staff? To what extent do external staff (researchers, program developers, trainers) have to remain involved, and in what capacities? What are the barriers to implementation, and how are challenges resolved? What level of support is necessary to sustain the program after the initial implementation period? What modifications and adaptations are made for children with special needs to be successful?

Replication/dissemination: What are the considerations in choosing sites for replication? What are the variations in context, target populations, and program delivery that affect the implementation process in new sites, and how might they affect the outcomes of the intervention program? What are the lessons learned in the initial implementation process that facilitate replication? What new, unanticipated issues arise? To what extent does the original intervention program have to be modified to adapt to local conditions? What are the key elements that have to be sustained to maintain effectiveness of the intervention?

Part II. Priority Areas

Statutory Authority

The Head Start Act, as amended, 42 U.S.C. 9801 et seq.

CFDA: 93.600

Head Start Quality Research Centers

Eligible Applicants: Universities, four-year colleges, and non-profit institutions on behalf of researchers who hold a doctorate degree or equivalent in their respective fields.

Planning Period: The first year of the awards under this announcement is primarily a planning period that is to be used for piloting the interventions to be delivered, training staff, and establishing or strengthening sound working relationships with the Head Start program partners. Noncompetitive awards in subsequent years are contingent upon an approved ready-to-be-implemented intervention plan at the end of the planning period and at the beginning of each subsequent program year, as well as the availability of funds. The applicant should still submit a full project description containing the information below under the Competitive Criteria and General Instructions in order for the application to be judged against the criteria.

Additional Requirements

• The principal investigator must have a doctorate or equivalent degree in the respective field, conduct research as a primary professional responsibility, and have published or have been accepted for publication in the major peer-review research journals in the field as a first author or second author.

• The proposed intervention plan must be responsive to the goal of supporting progress toward school readiness for children in Head Start.

• The proposed evaluation plan should specify which measures of implementation quality and standardized assessments of child development outcomes are to be used.

• The applicant must apply the University's or nonprofit institution's off-campus research rates for indirect costs.

• The applicant must enter into a partnership with a Head Start program for the purposes of conducting the research.

• The applicant must be willing to work with an external contracting firm for the collection of cross-site data, in coordination with any local data collection activities.

• The application must contain a letter from the Head Start program certifying that they have entered into a partnership with the applicant and the application has been reviewed and approved by the Policy Council.

• The principal investigator must agree to attend four quarterly meetings of the research consortium each year including Head Start's Sixth National Research Conference on June 26-29, 2002, as well at the Conference in the year 2004.

• The budget should reflect travel funds for such purposes.

• Contact information, including an e-mail address, for the principal investigator must be included in the application.

Project Duration: The announcement is soliciting applications for project periods of up to five years. Awards, on a competitive basis, will be for the first one-year budget period. Applications for continuation of cooperative agreements funded under these awards beyond the one-year budget period, but within the established project period, will be entertained in subsequent years on a non-competitive basis, subject to availability of funds, satisfactory progress of the grantee and a determination that continued funding would be in the best interest of the Government.

Federal Share of Project Costs: The Federal share of project costs shall not exceed $250,000 for the first 12-month budget period inclusive of indirect costs and shall not exceed $250,000 per year for the second and third through fifth 12-month budget periods.

Matching Requirement: There is no matching requirement.

Anticipated Number of Projects to be Funded: It is anticipated that 4-6 projects will be funded.

Part III. Competitive Criteria and General Instructions

Project Description

Purpose: The project description provides a major means by which an application is evaluated and ranked to compete with other applications for available assistance. The project description should be concise and complete and should address the activity for which Federal funds are being requested. Supporting documents should be included where they can present information clearly and succinctly. Applicants are encouraged to provide information on their organizational structure, staff, related experience, history of collaboration with Head Start programs, and other information in support of their candidacy. Awarding offices use this and other information to determine whether the applicant has the capability and resources necessary to carry out the proposed project. It is important, therefore, that this information be included in the application. However, in the narrative the applicant must distinguish between resources directly related to the proposed project from those that will not be used in support of the specific project for which funds are requested.

General Instructions: Cross-referencing should be used rather than repetition. ACF is particularly interested in specific factual information and statements of measurable goals in quantitative terms. Project descriptions are evaluated on the basis of substance, not length. Extensive exhibits are not required. (Supporting information concerning activities that will not be directly funded by the cooperative agreement or information that does not directly pertain to an integral part of the cooperative agreement funded activity should be placed in an appendix.) Pages should be numbered and a table of contents should be included for easy reference.

Introduction: Applicants are required to submit a full project description shall prepare the project description statement in accordance with the following instructions.

Project Summary/Abstract: Provide a summary of the project description (a page or less) with reference to the funding request.

Results Or Benefits Expected: Identify the results and benefits to be derived. For example, using a comprehensive review of the current literature, justify how the research questions and the findings will add new knowledge to the field and specifically how it will improve services for children and families.

Approach: Outline a plan of action that describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative quarterly projections of the accomplishments to be achieved for each function or activity in such terms as the proportion of data collection expected to be completed. When accomplishments cannot be quantified by activity or function, list them in chronological order to show the schedule of accomplishments and their target dates.

Identify the kinds of data to be collected, maintained, and/or disseminated. Note that clearance from the U.S. Office of Management and Budget might be needed prior to a “collection of information” that is “conducted or sponsored” by ACF, especially some forms of cross-site data collection. List organizations, cooperating entities, consultants, or other key individuals who will work on the project along with a short description of the nature of their effort or contribution.

Additional Information: Following is a description of additional information that should be placed in the appendix to the application.

Staff and Position Data: Provide a biographical sketch for each key person appointed and a job description for each vacant key position. A biographical sketch will also be required for new key staff as appointed.

Organization Profiles: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Dissemination Plan: Provide a plan for distributing reports and other project outputs to colleagues and the public. Applicants must provide a description of the kind, volume and timing of distribution.

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF cooperative agreement for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, cooperative agreement salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored quarterly meetings and the Head Start research conference should be detailed in the budget.

Equipment

Description: Costs of tangible, non-expendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Other

Enter the total of all other costs. Such costs, where applicable ad appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the cooperative agreement must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the cooperative agreement. Also, if the applicant is requesting a rate which is less than what is allowed under the program, the authorized representative of the applicant organization must submit a signed acknowledgement that the applicant is accepting a lower rate than allowed.

Total Direct Charges, Total Indirect Charges, Total Project Costs. Self explanatory

Part IV.

A. Criteria

Reviewers will consider the following factors when assigning points.

1. Results or Benefits Expected 25 points

• The research questions are clearly stated.

• The extent to which the questions are of importance and relevance for low-income children's development and welfare.

• The extent to which the research study makes a significant contribution to the knowledge base.

• The extent to which the literature review is current and comprehensive and supports the need for the intervention and for its evaluation, the questions to be addressed or the hypotheses to be tested.

• The extent to which the questions that will be addressed or the hypotheses that will be tested are sufficient for meeting the stated objectives.

• The extent to which the proposal contains a dissemination plan that encompasses both professional and practitioner-oriented products.

2. Approach 40 points

• The extent to which the intervention is adequately described, responsive to the key questions outlined in the background section above, and represents a research-based, cost effective quality program enhancement that meets the goal of supporting the school readiness of children in Head Start.

• The extent to which the research design is appropriate and sufficient for addressing the questions of the study.

• The extent to which child outcomes in the comprehensive domains of school readiness are the major focus of the study.

• The extent to which the planned research specifies the measures to be used and the analyses to be conducted.

• The extent to which the planned measures are appropriate and sufficient for the questions of the study and the population to be studied.

• The extent to which the planned measures and analyses both reflect knowledge and use of state-of-the-art measures and analytic techniques and advance the state-of-the art.

• The extent to which the analytic techniques are appropriate for the question under consideration.

• The extent to which the proposed sample size is sufficient for the study.

• The scope of the project is reasonable for the funds available for these cooperative agreements.

• The extent to which the planned approach reflects sufficient input from and partnership with the Head Start program.

• The extent to which the planned approach includes techniques for successful transfer of the intervention and research to an additional site or sites.

3. Staff and Position Data 35 points

• The extent to which the principal investigator and other key research staff possess the research expertise necessary to conduct the study as demonstrated in the application and information contained in their vitae.

• The principal investigator(s) has earned a doctorate or equivalent in the relevant field and has first or second author publications in major research journals.

• The extent to which the proposed staff reflect an understanding of and sensitivity to the issues of working in a community setting and in partnership with Head Start program staff and parents.

• The adequacy of the time devoted to this project by the principal investigator and other key staff in order to ensure a high level of professional input and attention.

B. The Review Process

Applications received by the due date will be reviewed and scored competitively. Experts in the field, generally persons from outside the Federal government, will use the evaluation criteria listed in Part IV of this announcement to review and score the applications. The results of this review are a primary factor in making funding decisions. ACYF may also solicit comments from ACF Regional Office staff and other Federal agencies. These comments, along with those of the expert reviewers, will be considered in making funding decisions. In selecting successful applicants, consideration may be given to other factors including but not limited to geographical distribution.

Part V. Instructions for Submitting Applications

A. Availability of Forms

Eligible applicants interested in applying for funds must submit a complete application including the required forms. In order to be considered for a cooperative agreement under this announcement, an application must be submitted on the Standard Form 424 (approved by the Office of Management and Budget under Control Number 0348-0043). Each application must be signed by an individual authorized to act for the applicant and to assume responsibility for the obligations imposed by the terms and conditions of the cooperative agreement award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within P.L. 103-227, Part C Environmental Tobacco Smoke (also known as The Pro-Children's Act of 1994). A copy of the Federal Register notice which implements the smoking prohibition is included with the forms. By signing and submitting the application, applicants are providing the certification and need not mail back the certification with the application.

All applicants for research projects must provide a Protection of Human Subjects Assurance as specified in the policy described on the HHS Form 596 (approved by the Office of Management and Budget under control number 0925-0418). If there is a question regarding the applicability of this assurance, contact the Office for Protection from Research Risks of the National Institutes of Health at (301)-496-7041. Those applying for or currently conducting research projects are further advised of the availability of a Certificate of Confidentiality through the National Institute of Mental Health of the Department of Health and Human Services. To obtain more information and to apply for a Certificate of Confidentiality, contact the Division of Extramural Activities of the National Institute of Mental Health at (301) 443-4673. All necessary forms are available on the ACF website at http://www.acf.dhhs.gov/programs/ofs/grants/form.htm.

B. Proposal Limits

The proposal should be double-spaced and single-sided on 8 ½″ × 11″ plain white paper, with 1″ margins on all sides. Use only a standard size font no smaller than 12 pitch throughout the proposal. All pages of the proposal (including appendices, resumes, charts, references/footnotes, tables, maps and exhibits) must be sequentially numbered, beginning on the first page after the budget justification, the principal investigator contact information and the Table of Contents. The length of the proposal starting with page 1 as described above and including appendices and resumes must not exceed 60 pages. Anything over 60 pages will be removed and not considered by the reviewers. The project summary should not be counted in the 60 pages. Applicants should not submit reproductions of larger sized paper that is reduced to meet the size requirement. Applicants are requested not to send pamphlets, brochures, or other printed material along with their applications as these pose copying difficulties. These materials, if submitted, will not be included in the review process. In addition, applicants must not submit any additional letters of endorsement beyond any that may be required.

Applicants are encouraged to submit curriculum vitae using “Biographical Sketch” forms used by some government agencies.

Please note that applicants that do not comply with the requirements in the section on “Eligible Applicants” will not be included in the review process.

C. Checklist for a Complete Application

The checklist below is for your use to ensure that the application package has been properly prepared.

—One original, signed and dated application plus two copies.

—Attachments/Appendices, when included, should be used only to provide supporting documentation such as resumes, and letters of agreement/support.

A complete application consists of the following items in this order:

Front Matter:

• Cover Letter.

• Table of Contents.

• Principal Investigator including telephone number, fax number and e-mail address.

• Project Abstract.

(1) Application for Federal Assistance (SF 424, REV. 4-92);

(2) Budget information-Non-Construction Programs (SF424A&B REV.4-92);

(3) Budget Justification, including subcontract agency budgets;

(4) Letters (A) from the Head Start program certifying that the program is a research partner of the respective applicant and (B) that the Policy Council has reviewed and approved the application;

(5) Application Narrative and Appendices (not to exceed 60 pages);

(6) Proof of non-profit status. Any non-profit organization submitting an application must submit proof of its non-profit status in its application at the time of submission. The non-profit organization can accomplish this by providing a copy of the applicant's listing in the Internal Revenue Service's (IRS) most recent list of tax-exempt organizations described in Section 501(c)(3) of the IRS code or by providing a copy of the currently valid IRS tax exemption certificate, or by providing a copy of the articles of incorporation bearing the seal of incorporation of the State in which the corporation or association is domiciled.

(7) Assurances Non-Construction Programs;

(8) Certification Regarding Lobbying;

(9) Where appropriate, a completed SPOC certification with the date of SPOC contact entered in line 16, page 1 of the SF 424, REV.4-92;

(10) Certification of Protection of Human Subjects.

D. Due Date for the Receipt of Applications

1. Deadline: The closing time and date for receipt of applications is 5:00 p.m. (Eastern Time Zone) November 6, 2000. Mailed applications shall be considered as meeting an announced deadline if they are received on or before the deadline time and date at: ACYF Operations Center, 1815 N. Fort Myer Drive, Suite 300, Arlington, Virginia 22209.

Attention: Application for Head Start Quality Research Centers

Applicants are responsible for mailing applications well in advance, when using all mail services, to ensure that the applications are received on or before the deadline time and date.

Applications hand carried by applicants, applicant couriers, or by overnight/express mail couriers shall be considered as meeting an announced deadline if they are received on or before the deadline date, between the hours of 8:00 a.m. and 5:00 p.m., Monday-Friday (excluding holidays) at the address above. (Applicants are cautioned that express/overnight mail services do not always deliver as agreed.)

ACF cannot accommodate transmission of applications by fax or e-mail. Therefore, applications faxed or e-mailed to ACF will not be accepted regardless of date or time of submission and time of receipt.

2. Late applications: Applications which do not meet the criteria above are considered late applications. ACF shall notify each late applicant that its application will not be considered in the current competition.

3. Extension of deadlines: ACF may extend an application deadline when justified by circumstances such as acts of God (e.g., floods or hurricanes), widespread disruptions of mail service, or other disruptions of services, such as a prolonged blackout, that affect the public at large. A determination to waive or extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under the following current valid OMB control numbers: 0348-0043, 0348-0044, 0348-0040, 0348-0046, 0925-0418 and 0970-0139.

Public reporting burden for this collection is estimated to average 40 hours per response, including the time for reviewing instructions, gathering and maintaining the data needed and reviewing the collection of information.

The project description is approved under OMB control number 0970-0139 which expires 10/31/2000.

An agency may not conduct or sponsor, and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

*All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When comments are submitted directly to ACF, they should be addressed to: William Wilson, Head Start Bureau, 330 C Street S.W., Washington, D.C. 20447, Attn: Head-Start Quality Research Centers. A list of the Single Points of Contact for each State and Territory can be found on the web site http://www.whitehouse.gov/omb/grants/spoc.html

Dated: August 30, 2000.
Patricia Montoya,
Commissioner, Administration on Children, Youth and Families.

[FR Doc. 00-22772 Filed 9-5-00; 8:45 am]

BILLING CODE 4184-01-P